Title 3—

The President

Proclamation 10092 of October 3, 2020

Fire Prevention Week, 2020

By the President of the United States of America

A Proclamation

During Fire Prevention Week, we are reminded to keep doing our part to prevent fires before they tragically claim lives and destroy homes, businesses, and natural resources. Every American can play a role in raising awareness about preventing fires and taking simple precautions to help prevent fire-related deaths and injuries. We also commend our Nation's brave firefighters and emergency workers who risk their health and safety each day, and we solemnly remember those who gave their lives in service to protect Americans and our communities. This week, I encourage all Americans to take steps to prepare their family, property, and community on what to do before, during, and after a fire.

This year, courageous firefighters and other brave Americans have confronted one of the worst fire seasons in our history. We have seen more than 43,500 wildfires, lost more than 10,000 buildings, and 35 people have tragically died. In the Western States, more than 30,000 firefighters—the largest deployment in history—have battled these fires, risking their lives for their fellow Americans' safety. My Administration is thankful for the assistance from our National Guard, Navy, Marine Corps, and international partners from Canada and Mexico to help end this devastation.

This tragic fire season is another reminder of the importance of effective forest management, which can play a big role in helping prevent forest fires. Proactive steps such as cleaning forest floors to remove flammable limbs and leaves can help reduce the risk of large fires and improve the health of our Nation's forests. In 2020, I have approved more than 30 Stafford Act Declarations, including Fire Management Assistance Grants, to help multiple States stop fires, and we continue to encourage active forest management efforts throughout the country.

This year, we also give special recognition to the many American firefighters who joined the valiant efforts of our Australian allies in fighting bushfires that killed hundreds of people and countless animals and destroyed thousands of homes. Tragically, three Americans perished in this courageous effort. These heroes, all veterans of the United States Armed Forces, embodied the very best of the American spirit in their desire to help others, and we will always honor their memory.

Home fires are also a cause for significant concern. Cooking fires are one of the most common types of residential fires, and fires in the home can start easily if the right precautions are not taken. I recommend that Americans take active steps to protect themselves and their families at home, including by testing smoke alarms once a month and replacing them after 10 years, as recommended by the United States Fire Administration. Additionally, it is important to have a fire escape route in place so all are prepared for how to leave the home if a fire does occur. We can all do our part to prevent fires in and around our homes to protect the lives of our families and neighbors.

Throughout this Fire Prevention Week, we come together to recognize the threat posed by fire, honor the lives it claims each year, and recommit to preventing fires in our homes, businesses, and across this great Nation's wildlands. I encourage all Americans to reduce fire deaths, injuries, and property loss through prudent preparation.

NOW, THEREFORE, I, DONALD J. TRUMP, President of the United States of America, by virtue of the authority vested in me by the Constitution and the laws of the United States, do hereby proclaim October 4 through October 10, 2020, as Fire Prevention Week. On Sunday, October 4, 2020, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this third day of October, in the year of our Lord two thousand twenty, and of the Independence of the United States of America the two hundred and forty-fifth.

[FR Doc. 2020-22498

Filed 10-7-20; 11:15 am]

Billing code 3295-F1-P